DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable dates.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 28, 2023, OFAC determined that the property and interests in property subject to U.S. jurisdiction of the following persons are blocked under the relevant sanctions authorities listed below.

BILLING CODE 4810-AL-P

Entities

1. AL-ISRAA ESTABLISHMENT FOR IMPORT AND EXPORT (a.k.a. AL ISRAA IMPORT AND EXPORT ESTABLISHMENT), No. 142 Niha-Main Road, Zahle, Lebanon; Secondary sanctions risk: section 1(b) of Executive Order 13224, as amended by Executive Order 13886; Organization Established Date 18 Jan 2014; Registration Number 4800490 (Lebanon) [SDGT] (Linked To: DAQQOU, Hassan Muhammad).

Designated pursuant to section 1(a)(iii)(A) of E.O. 13224, as amended, for being owned, controlled, or directed by, directly or indirectly, by HASSAN MUHAMMAD DAQQOU, a person whose property and interests in property are blocked pursuant to E.O. 13224, as amended.

2. HASSAN DAQQOU TRADING (a.k.a. HASAN DEQQOU TRADING; a.k.a. HASSAN DAGO FOR TRADE), No. 142 Niha-Main Road, Zahle, Lebanon; Secondary sanctions risk: section 1(b) of Executive Order 13224, as amended by Executive Order 13886; Organization Established Date 18 Jan 2014; Registration Number 4004501 (Lebanon) [SDGT] (Linked To: DAQQOU, Hassan Muhammad).

Designated pursuant to section 1(a)(iii)(A) of E.O. 13224, as amended, for being owned, controlled, or directed by, directly or indirectly, by HASSAN MUHAMMAD DAQQOU, a person whose property and interests in property are blocked pursuant to E.O. 13224, as amended.

Dated: March 28, 2023.
Andrea M. Gacki,
Director, Office of Foreign Assets Control, U.S. Department of the Treasury.

[FR Doc. 2023-07290 Filed 4-6-23; 8:45 am]

BILLING CODE 4810-AL-C